OFFICE OF MANAGEMENT AND BUDGET

Standard Occupational Classification—Revision for 2010

AGENCY: Executive Office of the President, Office of Management and Budget.

ACTION: Notice of solicitation of comments.

SUMMARY: Under 44 U.S.C. 3504(e), the Office of Management and Budget (OMB) announces the review of the 2000 SOC for possible revision in 2010 and solicits public comment on: (1) The Standard Occupational Classification (SOC) Classification Principles, (2) corrections to the 2000 SOC Manual, (3) the intention to retain the current SOC Major Group structure, (4) changes to the existing detailed occupations, and (5) new detailed ccupations to be added to the 2010 SOC. Details about these topics may be found in the SUPPLEMENTARY INFORMATION section below. As indicated in the 2000 SOC Manual, OMB established a Standard Occupational Classification Policy Committee (SOCPC) to maintain the current SOC to ensure that it remains applicable to the world of work. The SOCPC welcomes comments related to any aspect of occupational classification, the 2000 SOC, or the revision process. The review and revision of the SOC for 2010 is intended to be completed by the end of 2008.

DATES: Effective Date: To ensure consideration by the SOC Policy Committee, all comments must be received in writing on or before July 17, 2006.

ADDRESSES: Please send all comments to: Standard Occupational Classification Revision Policy Committee, U.S. Bureau of Labor Statistics, Suite 2135, 2 Massachusetts Avenue, NE., Washington, DC 20212. Telephone number: (202) 691-6500, fax number: (202) 691-6444. All comments submitted in response to this notice will be made available to the public. For this reason, please do not include in your comments information of a confidential nature, such as sensitive personal information or proprietary information. Comments may be submitted electronically to soc@bls.gov. Inquiries concerning the definitions of particular occupations and requests for electronic copies of the SOC structure should be made to the address listed above.

Electronic availability. This document is available on the Internet from the Bureau of Labor Statistics via World Wide Web (WWW) browser and e-mail. To obtain this document via WWW browser, connect to http://www.bls.gov/soc then select “Standard Occupational Classification Documents.” To obtain this document via e-mail or to submit comments, send a message to soc@bls.gov. Comments received at this address by July 17, 2006 will be included as part of the official record.

Availability of comment materials. All comments received will be available to the public at the Bureau of Labor Statistics during normal business hours, 8:15 a.m. to 4:45 p.m., in Suite 2135, 2 Massachusetts Avenue, NE., Washington DC 20212. Please call BLS at (202) 691-6500 to make an appointment if you wish to view the comments received in response to this notice.

FOR FURTHER INFORMATION CONTACT: Anne Louise Marshall, U.S. Bureau of Labor Statistics, Suite 2135, 2 Massachusetts Avenue, NE., Washington, DC 20212; e-mail marshall.anne@bls.gov; telephone (202) 691-5054.

SUPPLEMENTARY INFORMATION:

History of the 2000 SOC Revision

The 2000 Standard Occupational Classification (SOC), which replaced the 1980 SOC, was developed in response to a growing need for a universal occupational classification system. Such a classification system allows government agencies and private industry to produce comparable data. Users of occupational data include government program managers, industrial and labor relations practitioners, job seekers, employers wishing to set salary scales or locate an establishment, and educational institutions—including teachers, guidance counselors, and students exploring careers and identifying career education and training alternatives.

The SOC is designed to reflect the current occupational structure of the United States; it classifies all occupations in which work is performed for pay or profit. The 2000 SOC covers all jobs in the national economy, including occupations in the public, private, and military sectors.

The 2000 SOC is the result of a cooperative effort by all Federal agencies that use occupational classification systems to maximize the usefulness of occupational information collected by the Federal Government and is the result of four years of research by the SOC Revision Policy Committee (SOCRPC) and work groups composed of members from more than fifteen government agencies.

In 1994, the Office of Management and Budget formed the SOCRPC with members from: the Department of Labor's Bureau of Labor Statistics and Employment and Training Administration, the Department of Commerce's Census Bureau, the Department of Defense's Defense Manpower Data Center, the Department of Education, the Office of Personnel Management, and the Office of Management and Budget, as well as participants from the Departments of Agriculture, Health and Human Services, and Transportation, and the National Science Foundation and the Equal Employment Opportunity Commission.

The SOC Revision Policy Committee was charged with identifying the major statistical uses of occupational classifications and creating a classification system that reflected the current occupational structure in the United States. The SOCRPC used the Bureau of Labor Statistics' Occupational Employment Statistics (OES) classification system as the starting point for the new SOC framework. To carry out the bulk of the revision effort, the committee created six work groups to examine occupations in the following areas: Administrative and Clerical Occupations; Natural Science, Law, Health, Education, and Arts Occupations; Services and Sales Occupations; Construction, Extraction, and Transportation Occupations; Mechanical and Production Occupations; and Military Occupations. The work groups were charged with ensuring that the occupations under their consideration conformed to the classification principles adopted by the SOCRPC.

In carrying out their charge, the work groups and the SOCRPC carefully considered all proposals received in response to Federal Register notices issued by OMB and the committee. Federal Register notices requested comments on the uses of occupational data; the existing 1980 SOC classification principles, purpose and scope, and conceptual options; the SOCRPC's proposed revision process; the composition of detailed occupations; the hierarchical structure and numbering system; and the update procedures.

Review of the 2000 SOC and Request for Comments

The Office of Management and Budget has requested the Standard Occupational Classification Policy Committee to review the 2000 SOC for possible revision by 2010. The SOCPC solicits and welcomes comments related to any aspect of occupational classification, especially comments concerning:

• The Revised Classification Principles for the 2010 SOC proposed by the SOCPC,

• The SOCPC's intention to retain the 2000 SOC Major Group Structure,

• Public proposals for corrections and changes to the existing detailed occupations, and

• Public proposals for new detailed occupations to be added to the 2010 SOC.

Each of these topics is discussed in turn below.

The Revised Principles for the 2010 SOC Proposed by the SOCPC

The SOCPC proposes the following revised principles, which are based in large part on those that governed the 2000 SOC:

1. The Classification covers all occupations in which work is performed for pay or profit, including work performed in family-operated enterprises by family members who are not directly compensated. It excludes occupations unique to volunteers. Each occupation is assigned to only one occupational category at the lowest level of the classification.

2. Occupations are classified based on work performed and on required skills, education, and training.

3. Supervisors of professional and related occupations (Major Groups 13-0000 through 29-0000) usually have a background similar to that of the workers they supervise, and therefore are classified with the workers they supervise. Likewise, supervisors of service occupations; sales and office occupations; natural resources occupations; construction and maintenance occupations; and production, transportation, and material moving occupations (Major Groups 31-0000 through 53-0000), who spend 20 percent or more of their time performing work similar to the workers they supervise, are classified with the workers they supervise.

4. First-line supervisors/managers of workers in Major Groups 31-0000 through 53-0000, who spend more than 80 percent of their time performing supervisory activities, are classified separately in the appropriate supervisor category because their work activities are distinct from those of the workers they supervise.

5. Workers primarily engaged in planning and directing will be classified in management occupations in Major Group 11-0000.

6. Apprentices and trainees should be classified with the occupations for which they are being trained, while helpers and aides should be classified separately.

7. If an occupation is not included as a distinct detailed occupation in the structure, it is classified in the appropriate residual occupation. Residual occupations contain all occupations within a major, minor or broad group that are not classified separately.

8. When workers may be classified in more than one occupation, they should be classified in the occupation that requires the highest level of skill. If there is no measurable difference in skill requirements, workers are included in the occupation in which they spend the most time.

9. For a detailed occupation to be included in the SOC, either the Bureau of Labor Statistics or the Census Bureau must be able to collect data on that occupation.

10. Data collection and reporting agencies should classify workers at the most detailed SOC level possible. Different agencies may use different levels of classification and aggregation, depending on their ability to collect data and on the requirements of users.

Please note that in addition to inserting two new principles (numbered 5 and 9) and providing some clarifying language, the SOCPC has removed “credentials” from the list of classification criteria for Principle 2 due to the complexity, variability, and frequency of change in credential requirements. In particular:

(1) There are many different types of credentials that apply to occupations—State occupational licensing, Federal occupational licensing, private sector occupational certifications, as well as certifications of particular skill sets that may apply to multiple occupations, such as certification in facility with a certain type of software, equipment, or safety or regulatory procedures.

(2) Credentialing requirements vary not only from State to State, but may also vary by locality, by industry size class, or by firm.

(3) There is no current data collection mechanism to obtain comprehensive information on occupational credentialing and keep it updated; therefore, it is not feasible to adequately factor in credentialing requirements when classifying or defining an occupation.

(4) As technology and other requirements change, credentials change over time more rapidly than other variables and these changes could not be reflected in a classification that is to remain stable over a 5 to 10 year period—as attested to by the hundreds of Information Technology certifications that have come into existence during the last 5 to 10 years—the period during which the 2000 SOC was developed and put into use.

The SOCPC invites comments on its proposed revised principles for the 2010 SOC.

The SOCPC's Intention To Retain the 2000 SOC Major Group Structure

The 2000 SOC classifies workers at four levels of aggregation: (1) Major Group; (2) Minor Group; (3) Broad Occupation; and (4) Detailed Occupation. All occupations are clustered into one of the following 23 Major Groups:

11-0000 Management Occupations

13-0000 Business and Financial Operations Occupations

15-0000 Computer and Mathematical Occupations

17-0000 Architecture and Engineering Occupations

19-0000 Life, Physical, and Social Science Occupations

21-0000 Community and Social Services Occupations

23-0000 Legal Occupations

25-0000 Education, Training, and Library Occupations

27-0000 Arts, Design, Entertainment, Sports, and Media Occupations

29-0000 Healthcare Practitioners and Technical Occupations

31-0000 Healthcare Support Occupations

33-0000 Protective Service Occupations

35-0000 Food Preparation and Serving Related Occupations

37-0000 Building and Grounds Cleaning and Maintenance Occupations

39-0000 Personal Care and Service Occupations

41-0000 Sales and Related Occupations

43-0000 Office and Administrative Support Occupations

45-0000 Farming, Fishing, and Forestry Occupations

47-0000 Construction and Extraction Occupations

49-0000 Installation, Maintenance, and Repair Occupations

51-0000 Production Occupations

53-0000 Transportation and Material Moving Occupations

55-0000 Military Specific Occupations

In order to ensure consistency and the potential to satisfy a strong user mandate for time series continuity in occupational employment and wage data, the SOCPC proposes that no changes be made to the current Major Groups as denoted in the 2000 SOC Manual. The SOCPC invites comments on the proposed decision not to entertain changes to the current Major Groups.

Public Proposals for Corrections and Changes to the Existing Detailed Occupations

Generally, the definitions in the SOC contain the minimum description needed to let users know which workers would be classified in a particular occupation. The SOCPC invites comments on corrections concerning typographical or definitional errors and changes to the existing detailed occupations. Suggested changes to existing detailed occupations may address the occupational title, definition, or Illustrative Examples. The SOCPC will also accept comments on the possibility of combining some titles into one occupation group and separating new titles from existing groups.

Public Proposals for New Detailed Occupations to be Added to the 2010 SOC

Changes in the economy, technology, and the workplace may warrant additional detailed occupations in the SOC. Changes to the list of detailed occupations should be guided by principles established by the SOC Policy Committee, and, in the interest of maintaining the usefulness of the SOC system, should be easily cross-walked to the 2000 SOC. The SOCPC invites proposals for new detailed occupations to be added to the 2010 SOC. Proposals that include a detailed description of the occupation together with an estimate of employment and address the ability to collect data on this occupation are welcomed as well as comments indicating how suggested changes will better reflect the current occupational structure in the U.S. economy.

The SOCPC recognizes a difference between a job and an occupation. Workers in an establishment perform a combination of tasks that is largely dependent on factors such as the establishment's industry, what tasks other workers in the establishment are performing, and the employment size of the establishment. This combination of tasks makes up an individual worker's job. The exact group of tasks is often, but not always, unique to that worker. Almost every job, however, is similar to a number of other jobs.

Occupational classification schemes examine and organize the millions of jobs in the economy into occupations based upon their similarities as determined by the scheme's classification principles (see above: “The Revised Principles for the 2010 SOC Proposed by the SOCPC”). The schemes define the content of the individual occupations. Thus, an occupational definition is a collective description of a number of similar individual jobs performed, with minor variations, in different establishments. An example of a job is “Producer Price Index supervisory economist” while the occupation would be “Economist.” The job “NBA player” is specific to a relatively small group, while “Athletes and Sports Competitors” is an occupation. When reviewing and evaluating individual proposals, the SOCPC will consider the degree to which a proposed addition relates to an occupation rather than a job.

The review and revision of the SOC for 2010 is intended to be completed by the end of 2008.

Donald R. Arbuckle,
Acting Administrator and Deputy Administrator, Office of Information and Regulatory Affairs.

[FR Doc. E6-7415 Filed 5-15-06; 8:45 am]

BILLING CODE 3110-01-P